DEPARTMENT OF DEFENSE

Office of the Secretary

32 CFR Part 170

[Docket ID: DoD-2023-OS-0063]

Posting of Informational Video: Cybersecurity Maturity Model Certification (CMMC) Program

AGENCY: Office of the Department of Defense Chief Information Officer, Department of Defense (DoD).

ACTION: Notification of posting of informational video on CMMC.

SUMMARY: The Office of the Department of Defense Chief Information Officer (DoD CIO) has released an informational video to provide the public with an overview of the proposed rule for DoD's updated Cybersecurity Maturity Model Certification (CMMC) Program, which was published in the Federal Register on December 26, 2023 for public comment. The proposed rule establishes requirements for a comprehensive and scalable assessment mechanism to ensure defense contractors and subcontractors have, as part of the CMMC Program, implemented required existing security requirements for Federal Contract Information and Controlled Unclassified Information (CUI) and adds new CUI security requirements for certain priority programs. This document announces that a video file containing an overview briefing of the CMMC proposed rule, presented by leadership and staff from the Office of the DoD Deputy CIO for Cybersecurity, was posted on the internet on February 14, 2024.

DATES: The video is available as of February 14, 2024.

ADDRESSES: The video is available to the public at the following link: https://www.dvidshub.net/video/912871/cybersecurity-maturity-model-certification-cmmc-proposed-rule-overview.

FOR FURTHER INFORMATION CONTACT: Ms. Diane Knight, Office of the DoD CIO, osd.mc-alex.dod-cio.mbx.cmmc-32cfr-rulemaking@mail.mil, (202) 770-9100.

SUPPLEMENTARY INFORMATION: A video on the proposed rule titled “Cybersecurity Maturity Model Certification (CMMC) Program” (32 CFR part 170) (88 FR 89058-89138) has been posted to https://www.dvidshub.net/video/912871/cybersecurity-maturity-model-certification-cmmc-proposed-rule-overview to provide the public with additional information and clarification on the updated CMMC Program as detailed in the proposed rule.

This video is available to the public through the link above. Any interested member of the public may view this video. Closed captioning will be available for individuals who are deaf, hard of hearing, or who have certain cognitive or learning impairments.

Dated: February 14, 2024.
Aaron T. Siegel,
Alternate OSD Federal Register Liaison Officer, Department of Defense.

[FR Doc. 2024-03460 Filed 2-20-24; 8:45 am]

BILLING CODE 6001-FR-P